DEPARTMENT OF LABOR

Employment and Training Administration

[TA-W-64,282]

Allied Systems, Ltd., Moraine, OH; Notice of Termination of Investigation

Pursuant to Section 221 of the Trade Act of 1974, as amended, an investigation was initiated on October 27, 2008 in response to a worker petition filed by the International Brotherhood of Teamsters, Local 957, on behalf of workers of Allied Systems, Ltd., Moraine, Ohio.

The petitioning group of workers is covered by an active certification, (TA-W-63,344, amended) which expires on June 5, 2010. Consequently, further investigation in this case would serve no purpose, and the investigation has been terminated.

Signed at Washington, DC this 11th day of December 2008.
Linda G. Poole,
Certifying Officer, Division of Trade Adjustment Assistance.

[FR Doc. E8-29938 Filed 12-17-08; 8:45 am]

BILLING CODE 4510-FN-P